DEPARTMENT OF THE INTERIOR

Bureau of Land Management

[CA-110]

Meeting of the Central California Resource Advisory Council

ACTION: Notice of Public Meeting.

SUMMARY: In accordance with the Federal Land Policy and Management Act (FLPMA) and the Federal Advisory Committee Act of 1972 (FACA), the U.S. Department of the Interior, Bureau of Land Management (BLM) Central California Resource Advisory Council (RAC) will meet as indicated below.

DATES: The meetings will be held Friday and Saturday, June 13 and 14, 2008, at the El Dorado Hills Fire Department, 1050 Wilson Blvd., El Dorado Hills, California. On June 13, the RAC will convene at 8 a.m. for a business meeting, followed by a field trip to Pine Hill Preserve in El Dorado County beginning at noon. Members of the public are welcome to attend the tour and meeting. Field tour participants must provide their own transportation and lunch. The RAC will resume its meeting at 8:30 a.m. on June 14 in the El Dorado Hills Fire Department meeting room. Time for public comment is reserved from 9:30 a.m. to 10:30 a.m. on June 14. The public comment time may be extended if needed.

FOR FURTHER INFORMATION CONTACT: BLM Folsom Field Office Manager Bill Haigh or BLM Central California Public Affairs Officer David Christy, both at (916) 985-4474.

SUPPLEMENTARY INFORMATION: The twelve-member Central California RAC advises the Secretary of the Interior, through the BLM, on a variety of public land issues associated with public land management in the Central California. At this meeting, agenda items include discussion of issues regarding the wildland-urban interface at Pine Hill Preserve. The RAC will also hear status reports from BLM managers for the Folsom, Hollister, Bakersfield and Bishop field offices. The meeting is open to the public. The public may present written comments to the RAC, and time will be allocated for hearing public comments. Depending on the number of persons wishing to comment and the time available, the time for individual oral comments may be limited. Individuals who plan to attend and need special assistance such as sign language interpretation or other reasonable accommodations should contact the BLM as indicated above.

Charge Code: CA 110-1820-XX

Dated: May 1, 2008.
David Christy,
Public Affairs Officer.

[FR Doc. E8-10338 Filed 5-8-08; 8:45 am]

BILLING CODE 4310-HC-P